DEPARTMENT OF EDUCATION

Notice of Proposed Information Collection Requests

AGENCY: Department of Education (ED).

ACTION: Notice of Proposed Information Collection Requests.

SUMMARY: The Director, Information Collection Clearance Division, Regulatory Information Management Services, Office of Management, invites comments on the proposed information collection requests as required by the Paperwork Reduction Act of 1995.

DATES: An emergency review has been requested in accordance with the Act (44 U.S.C. Chapter 3507(j)), since public harm is reasonably likely to result if normal clearance procedures are followed. Approval by the Office of Management and Budget (OMB) has been requested by July 15, 2010. A regular clearance process is also beginning. Interested persons are invited to submit comments on or before August 23, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Information Collection Clearance Division, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: June 18, 2010.
Darrin A. King,
Director, Information Collection Clearance Division, Regulatory Information Management Services, Office of Management.

Office of Special Education and Rehabilitative Services

Type of Review: New.

Title: Rehabilitation Services Administration (RSA) Grant Reallotment Form.

Frequency: Annually.

Affected Public: Not-for-profit institutions; State, Local, or Tribal Gov't, SEAs or LEAs.

Reporting and Recordkeeping Hour Burden:

Responses: 402.

Burden Hours: 12.

Abstract: The Rehabilitation Act of 1973, as amended, authorizes the commissioner to reallot to other grant recipients that portion of a recipient's annual grant that cannot be used. To maximize the use of appropriated funds under the formula grant programs, The Office of Special Education and Rehabilitative Services has established a reallotment process for the Basic Vocational Rehabilitation State Grants; Supported Employment State Grants; Independent Living State Grants, Part B (IL-Part B); Independent Living Services for Older Individuals Who Are Blind (IL-OB); Client Assistance (CAP) and Protection and Advocacy of Individual Rights (PAIR) Programs. The authority for the Rehabilitation Services Administration to reallot formula grant funds is found at sections 110(b)(2) (VR), 622(b) (SE), 711(c) (IL-Part B), 752(j)(4) (IL-OB), 112(e)(2) (CAP), and 509(e) (PAIR) of the act. The information will be used by the Rehabilitation Services Administration State Monitoring and Program Improvement Division to reallot formula grant funds for the awards mentioned above. Currently, the information is collected through the issuance of an annual Information Memorandum. For each grant award, the grantee will be required to enter the amount of funds being relinquished and/or any additional funds being requested.

Additional Information: The Rehabilitation Services Administration (RSA), within the U.S. Department of Education's (ED) Office of Special Education and Rehabilitative Services (OSERS), has developed an online submission process for formula grant recipients to indicate the amount of funds they wish to relinquish during the reallotment process and/or the amount of funds they wish to request during this process. In previous years, this reallotment process was initiated through an Information Memorandum that RSA issued asking grantees to indicate the amount of funds being relinquished and/or requested. The reallotment process is based upon both statute and regulation and allows funds unused by some grantees receiving funds under the Rehabilitation Act of 1973, as amended, to be used by other grantees, thus eliminating the reversion of Federal funds to the U.S. Treasury.

Grantees in six of RSA's formula grant programs are subject to a reallotment process. These programs include the Vocational Rehabilitation State Grants, the Supported Employment State Grants, the Independent Living Part B, the Independent Living for Older Individuals Who Are Blind, the Client Assistance, and the Protection and Advocacy of Individual Rights programs. Specifically, for the Vocational Rehabilitation State Grants Program, RSA's largest formula grant program, 34 CFR 361.65(b) requires that: (1) “The Secretary determines no later than 45 days before the end of the fiscal year which States, if any, will not use their full allotment. (2) As soon as possible, but not later than the end of the fiscal year, the Secretary reallots these funds to other States that can use those additional funds during the current or subsequent year, provided the State can meet the matching requirement by obligating the non-Federal share of any realloted funds in the fiscal year for which the funds were appropriated.”

ED is requesting that the Office of Management and Budget (OMB) clear the application on an emergency basis because many States are experiencing challenging economic circumstances. We anticipate that they may not be able to match funds received under the Rehabilitation Act and that the reallotment process will be more critical this year than in years past. The online process we have developed is less burdensome to grantees, since the electronic system automatically generates much of the information that is required in the reallotment process.

As stated in the aforementioned citation, this reallotment process is required by regulation to be completed before September 30 of this year in order for States to obligate the reallotted funds and meet the matching requirements. Therefore, ED is requesting OMB approval of this online process by July 15, 2010. This timeframe will allow us sufficient time to: (1) Notify States about the new system for online submission of grant relinquishments or requests; (2) receive all necessary information from the State agencies by August 15, which meets the minimum 45 day requirement in 34 CFR 361.65(b)(1); and (3) to process the requests received no later than September 30, 2010, per 34 CFR 361.65(b)(2).

Requests for copies of the proposed information collection request may be accessed from http://edicsweb.ed.gov, by selecting the “Browse Pending Collections” link and by clicking on link number 4342. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-15181 Filed 6-22-10; 8:45 am]

BILLING CODE P